DEPARTMENT OF TRANSPORTATION

Federal Aviation Administration

14 CFR Part 39

[Docket No. FAA-2021-1019; Project Identifier 2020-CE-006-AD]

RIN 2120-AA64

Airworthiness Directives; Schempp-Hirth Flugzeugbau GmbH Gliders

AGENCY: Federal Aviation Administration (FAA), DOT.

ACTION: Notice of proposed rulemaking (NPRM).

SUMMARY: The FAA proposes to adopt a new airworthiness directive (AD) for all Schempp-Hirth Flugzeugbau GmbH Model Ventus-2a and Ventus-2b gliders. This proposed AD was prompted by mandatory continuing airworthiness information (MCAI) originated by an aviation authority of another country to identify and correct an unsafe condition on an aviation product. The MCAI describes the unsafe condition as severe corrosion on the inboard flaperon actuation push rods and ball bearing connecting the flaperon push rod to the bell crank inside the wing. This proposed AD would require inspecting the affected parts of the flaperon control in the wings and taking corrective actions if necessary. The FAA is proposing this AD to address the unsafe condition on these products.

DATES: The FAA must receive comments on this proposed AD by January 20, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

For service information identified in this NPRM, contact Schempp-Hirth Flugzeugbau GmbH, Krebenstrasse 25, 73230 Kirchheim/Teck, Germany; phone: +49 7021 7298-0; fax: +49 7021 7298-199; email: info@schempp-hirth.com; website: https://www.schempp-hirth.com. You may view this referenced service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2021-1019; or in person at Docket Operations between 9 a.m. and 5 p.m., Monday through Friday, except Federal holidays. The AD docket contains this NPRM, the MCAI, any comments received, and other information.

FOR FURTHER INFORMATION CONTACT: Jim Rutherford, Aviation Safety Engineer, General Aviation & Rotorcraft Section, International Validation Branch, FAA, 901 Locust, Room 301, Kansas City, MO 64106; phone: (816) 329-4165; fax: (816) 329-4090; email: jim.rutherford@faa.gov.

SUPPLEMENTARY INFORMATION:

Comments Invited

The FAA invites you to send any written relevant data, views, or arguments about this proposal. Send your comments to an address listed under ADDRESSES. Include “Docket No. FAA-2021-1019; Project Identifier 2020-CE-006-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Jim Rutherford, Aviation Safety Engineer, FAA, General Aviation & Rotorcraft Section, International Validation Branch, FAA, 901 Locust, Room 301, Kansas City, MO 64106. Any commentary that the FAA receives which is not specifically designated as CBI will be placed in the public docket for this rulemaking.

Background

The European Union Aviation Safety Agency (EASA), which is the Technical Agent for the Member States of the European Union, has issued EASA AD 2020-0063, dated March 18, 2020 (referred to after this as “the MCAI”), to address an unsafe condition on Schempp-Hirth Flugzeugbau GmbH Models Ventus-2a, Ventus-2b, Ventus-2c, Ventus-2cM, and Ventus-2cT gliders. The MCAI states:

Severe corrosion has been found on the inboard flaperon actuation push rod of some sailplanes. Subsequent investigation determined that, when water ballast is dumped in flight, some water may be sucked into the wing upper side and enter the wing via the flaperon push rod. Intruding water may cause corrosion especially on the ball bearing connecting the flaperon push rod to the bell crank inside the wing.

This condition, if not detected an[d] corrected, could lead to hard steering (when the ball bearing is damaged) or increased play (when the ball bearing has failed), possibly resulting in reduced control of the (powered) sailplane.

To address this potential unsafe condition, Schempp-Hirth Flugzeugbau GmbH issued the [technical note] TN to provide inspection and replacement instructions.

For the reason described above, this [EASA] AD requires repetitive inspections of the affected parts, as identified in the TN, and, depending on findings, replacement with serviceable parts.

You may examine the MCAI in the AD docket at https://www.regulations.gov by searching for and locating Docket No. FAA-2021-1019.

Related Service Information Under 1 CFR Part 51

The FAA reviewed Schempp-Hirth Flugzeugbau GmbH Working Instructions for Technical Note No. 349-42/825-57, Revision 2, dated February 24, 2020. This service information contains procedures for inspecting the pushrod, joint head, and bell crank of the flaperon control of the wings for corrosion or other damage, and replacing or servicing (repair) if necessary. This service information is reasonably available because the interested parties have access to it through their normal course of business or by the means identified in the ADDRESSES section.

Other Related Service Information

The FAA also reviewed Schempp-Hirth Flugzeugbau GmbH Technical Note No. 349-42/825-57, Revision 2, dated February 24, 2020. This service information specifies inspecting the pushrod, joint head, and bell crank of the flaperon control of the wings by following Schempp-Hirth Flugzeugbau GmbH Working Instructions for Technical Note No. 349-42/825-57, Revision 2, dated February 24, 2020.

FAA's Determination

This product has been approved by the aviation authority of another country, and is approved for operation in the United States. Pursuant to the FAA's bilateral agreement with this State of Design Authority, it has notified the FAA of the unsafe condition described in the MCAI and service information referenced above. The FAA is issuing this AD because it evaluated all information provided by the State of Design Authority and determined the unsafe condition exists and is likely to exist or develop on other products of the same type design.

Proposed AD Requirements

This proposed AD would require accomplishing the actions specified in the service information already described, except as described under “Differences Between this Proposed AD and the MCAI.”

Differences Between This Proposed AD and the MCAI

The MCAI applies to Schempp-Hirth Flugzeugbau GmbH Model Ventus-2c, Ventus-2cM, and Ventus-2cT gliders, and this proposed AD would not because they do not have an FAA type certificate.

Costs of Compliance

The FAA estimates that this AD, if adopted as proposed, would affect 33 gliders of U.S. registry. The FAA also estimates that it would take about 1 work-hour per glider to comply with the inspection that would be required by this proposed AD. Based on these figures, the FAA estimates the inspection cost of this proposed AD on U.S. operators to be $2,805 or $85 per glider, per inspection cycle.

In addition, the FAA estimates that each repair or replacement action required by this proposed AD would take up to 8 work-hours and require parts costing up to $800. Based on these figures, the FAA estimates the repair or replacement cost of this proposed AD on U.S. operators to be up to $1,480 per glider.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Schempp-Hirth Flugzeugbau GmbH: Docket No. FAA-2021-1019; Project Identifier 2020-CE-006-AD.

(a) Comments Due Date

The FAA must receive comments on this airworthiness directive (AD) by January 20, 2022.

(b) Affected ADs

None.

(c) Applicability

This AD applies to Schempp-Hirth Flugzeugbau GmbH Model Ventus-2a and Ventus-2b gliders, all serial numbers, certificated in any category.

(d) Subject

Joint Aircraft System Component (JASC) Code 2700, Flight Control System.

(e) Unsafe Condition

This AD was prompted by mandatory continuing airworthiness information (MCAI) originated by an aviation authority of another country to identify and address an unsafe condition on an aviation product. The MCAI describes the unsafe condition as severe corrosion on the inboard flaperon actuation push rods and ball bearing connecting the flaperon push rod to the bell crank inside the wing. The FAA is issuing this AD to prevent hard steering and increased play. The unsafe condition, if not addressed, could result in reduced control of the glider.

(f) Compliance

Comply with this AD within the compliance times specified, unless already done.

(g) Inspections and Corrective Actions

Within 90 days after the effective date of this AD and thereafter at intervals not to exceed 12 months, inspect the pushrod, joint head, and bell crank of the flaperon control of the wings for corrosion and other damage in accordance with Action 1 in Schempp-Hirth Flugzeugbau GmbH Working Instructions for Technical Note No. 349-42/825-57, Revision 2, dated February 24, 2020, and before further flight, repair or replace the affected part, as applicable, in accordance with Action 2 in Schempp-Hirth Flugzeugbau GmbH Working Instructions for Technical Note No. 349-42/825-57, Revision 2, dated February 24, 2020.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD and email to: 9-AVS-AIR-730-AMOC@faa.gov.

(2) Before using any approved AMOC, notify your appropriate principal inspector, or lacking a principal inspector, the manager of the local flight standards district office/certificate holding district office.

(i) Related Information

(1) For more information about this AD, contact Jim Rutherford, Aviation Safety Engineer, General Aviation & Rotorcraft Section, International Validation Branch, FAA, 901 Locust, Room 301, Kansas City, MO 64106; phone: (816) 329-4165; fax: (816) 329-4090; email: jim.rutherford@faa.gov.

(2) Refer to European Union Aviation Safety Agency (EASA) AD 2020-0063, dated March 18, 2020, for more information. You may examine the EASA AD in the AD docket at https://www.regulations.gov by searching for and locating Docket No. FAA-2021-1019.

(3) For service information identified in this AD, contact Schempp-Hirth Flugzeugbau GmbH, Krebenstrasse 25, 73230 Kirchheim/Teck, Germany; telephone: +49 7021 7298-0; fax: +49 7021 7298-199; email: info@schempp-hirth.com; website: https://www.schempp-hirth.com. You may view this referenced service information at the FAA, Airworthiness Products Section, Operational Safety Branch, 901 Locust, Kansas City, MO 64106. For information on the availability of this material at the FAA, call (816) 329-4148.

Issued on November 24, 2021.
Lance T. Gant,
Director, Compliance & Airworthiness Division, Aircraft Certification Service.

[FR Doc. 2021-26326 Filed 12-3-21; 8:45 am]

BILLING CODE 4910-13-P